ENVIRONMENTAL PROTECTION AGENCY

[FRL-7469-5]

Clean Water Act Section 303(d): Correction Notice of Unintentional Scriveners' Errors on Final Agency Action for Nine (9) Waterbody/Pollutant Combinations

AGENCY: Environmental Protection Agency (EPA).

ACTION: Notice of availability.

SUMMARY: This notice corrects unintentional scriveners' errors concerning the final agency action on nine (9) waterbody/pollutant combinations in the Louisiana Ouachita and Calcasieu river basins. On February 14, 2002, EPA proposed to delist five (5) waterbody/pollutant combinations because Total Maximum Daily Loads (TMDLs) were not needed. In response to comments and further review, EPA determined that TMDLs were indeed warranted for these waterbody/pollutant combinations and published a notice at 67 FR 40738 (June 13, 2002) that these TMDLs had been established. These waterbody/pollutant combinations also were incorrectly published on that same date at 67 FR 40737 as determinations that TMDLs were not needed. Documents from the administrative record files for the 5 TMDLs, including TMDL calculations and responses to comments may be viewed at http://www.epa.gov/region6/water/tmdl.htm.

TMDLs Established
Subsegment | Waterbody name | Pollutant
081602 | Little River—from Bear Creek to Catahoula Lake (Scenic) | Siltation.
080401 | Bayou Bartholomew—Arkansas State Line to Dead Bayou (Lake Bartholomew Scenic) | Suspended solids.
080401 | Bayou Bartholomew—Arkansas State Line to Dead Bayou (Lake Bartholomew Scenic) | Turbidity.
081601 | Little River—confluence of Castor Creek and Dugdemona River to junction with Bear Creek (Scenic) | Turbidity.
081602 | Little River—from Bear Creek to Catahoula Lake (Scenic) | Turbidity.

At 67 FR 15196 (March 29, 2002) EPA published a draft TMDL for a number of waterbody/pollutant combinations in the Calcasieu Estuary. Based on comments received, EPA determined that it was not appropriate to establish TMDLs for four (4) of these waterbody/pollutant combinations. These four (4) waterbody/pollutant combinations were erroneously indicated in the Final Agency Action as having TMDLs established at 67 FR 40735 (June 13, 2002). In fact, TMDLs were not established for these waterbody/pollutant combinations.

TMDLs Not Established
Subsegment | Waterbody name | Pollutant
030305 | Contraband Bayou (Estuarine) | Copper.
030301 | Calcasieu River and Ship Channel—Saltwater Barrier to Moss Lake (Estuarine) (Includes Coon Island and Clooney Island Loops) | Lead.
030304 | Moss Lake (Estuarine) | Mercury.
030901 | Bayou D'Inde—Headwaters to Calcasieu River (Estuarine) | Nickel.

ADDRESSES: Documents from the administrative record files may be obtained by writing or calling Ms. Ellen Caldwell, Environmental Protection Specialist, Water Quality Protection Division, U.S. Environmental Protection Agency Region 6, 1445 Ross Ave., Dallas, TX 75202-2733. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

Dated: March 11, 2003.
Miguel I. Flores,
Director, Water Quality Protection Division, Region 6.

[FR Doc. 03-6578 Filed 3-18-03; 8:45 am]

BILLING CODE 6560-50-P